DEPARTMENT OF DEFENSE

Department of the Army; Corps of Engineers

Availability of the Draft Supplement to the Final Environmental Impact Statement for the Operation and Maintenance Program at Wister Lake and Poteau River, OK

AGENCY: Department of the Army, U.S. Army Corps of Engineers, DoD.

ACTION: Notice of availability.

SUMMARY: Notice is made of the availability of a Draft Supplement to the Final Environmental Statement (DSFES) for the Operation and Maintenance Program at Wister Lake and Poteau River, OK, prepared by the Tulsa District of the U.S. Army Corps of Engineers (USACE). The supplement describes and considers the potential environmental consequences resulting from operating the Wister Lake project with a conservation pool at 478.0 feet National Geodetic Vertical Datum (NGVD) and from raising the conservation pool from 471.6 to 478.0 feet (NGVD).

DATES: The DSFES will be available for public review when this announcement is published. The review period of the document will be until September 11, 2002. To request a copy of the supplement, please call (918) 669-4396.

FOR FURTHER INFORMATION CONTACT: For further information regarding the DSFES, please contact Stephen L. Nolen, Chief, Environmental Analysis and Compliance Branch, U.S. Army Corps of Engineers, ATTN: CESWT-PE-E, 1645 South 101st East Avenue, Tulsa OK 74128-4629.

SUPPLEMENTARY INFORMATION: The Wister Lake Project is located in southeastern Oklahoma in LeFlore County and was authorized by the Flood Control Act of 1938 and completed in 1949. The project consists of the lake, dam, and downstream stations on the lower Poteau River to its confluence with the Arkansas River. It provides substantial flood control, municipal and industrial water supply, flow augmentation, water conservation, and sediment reduction. Wister Lake and its adjacent lands are also used for recreation, hunting, and wildlife management.

A Final Environmental Statement (FES) for operation and maintenance of the project was filed on November 19, 1973, and evaluated impacts to the environment from operating the project with a conservation pool level at 471.6 feet NGVD. Since 1974, the lake's conservation pool has been raised four times, either seasonally or permanently, principally to increase water supply and enhance recreation. The Water Resources Development Act of 1996 (WRDA 1996) instructed the United States Army Corps of Engineers (USACE) to permanently raise the conservation pool to its present elevation, 478.0 feet NGVD. However, impacts to resources and the environment were never documented or analyzed. To comply with the National Environmental Policy Act (NEPA), this supplement to the 1973 FES focuses on the impacts associated with maintaining the permanent pool level at 478.0 feet, as directed by Congress, and continuing current management practices. It also examines the historical impacts associated with raising the permanent conservation pool from its original level of 471.6 to 478.0 feet NGVD.

Raising the conservation pool to 478.0 feet NGVD has resulted in the loss and/or modification of approximately 3,254 acres of wildlife habitat and approximately 300 acres of a waterfowl marsh and green tree waterfowl management unit. Raising the conservation pool has inundated at least 10 archeological sites. Pool fluctuations and wave action between 471.6 and 478.0 feet NGVD have disturbed at least 18 archeological sites and may have affected as many as 36 sites.

Mitigation measures are proposed for those resources that have been negatively impacted from raising the conservation pool to 478.0 feet NGVD. These impacts are limited to biological and cultural resources. Mitigations for biological resources are based on recommendations of the U.S. Fish and Wildlife Service and include reimbursement to the Oklahoma Department of Wildlife Conservation for the loss of a green tree waterfowl management unit and the cost of reconstructing a new waterfowl management unit.

The USACE, Tulsa District is consulting with the Advisory Council on Historic Preservation, the Oklahoma State Historic Preservation Officer, the Caddo Tribe of Oklahoma, and the Wichita and Affiliated Tribes of Oklahoma to develop mitigation measures to minimize adverse effects of the proposed action on historic properties.

The DSFES has been coordinated and approved by offices and directorates affected by or interested in the subject matter, including the Office of Counsel and Executive Offices.

Stephen R. Zeltner,
Lieutenant Colonel, U.S. Army, Acting District Engineer.

[FR Doc. 02-16379 Filed 6-27-02; 8:45 am]

BILLING CODE 3710-39-P